INTERNATIONAL TRADE COMMISSION

[USITC SE-13-032]

Government in the Sunshine Act Meeting Notice

AGENCY HOLDING THE MEETING: United States International Trade Commission.

TIME AND DATE: December 2, 2013 at 11:30 a.m.

PLACE: Room 101, 500 E Street SW., Washington, DC 20436, Telephone: (202) 205-2000.

STATUS: Open to the public.

MATTERS TO BE CONSIDERED:

1. Agendas for future meetings: None

2. Minutes

3. Ratification List

4. Vote in Inv. Nos. 701-TA-506-508 and 731-TA-1238-1243 (Preliminary)(Non-Oriented Electrical Steel from China, Germany, Japan, Korea, Sweden, and Taiwan). The Commission is currently scheduled to complete and file its determinations on or before December 2, 2013; Commissioners' opinions will be issued on December 9, 2013.

5. Outstanding action jackets: none

In accordance with Commission policy, subject matter listed above, not disposed of at the scheduled meeting, may be carried over to the agenda of the following meeting.

By order of the Commission:
Issued: November 21, 2013.
William R. Bishop,
Supervisory Hearings and Information Officer.

[FR Doc. 2013-28299 Filed 11-21-13; 11:15 am]

BILLING CODE 7020-02-P